THE NATIONAL FOUNDATION FOR THE ARTS AND THE HUMANITIES

Submission for OMB Review, Comment Request, Proposed Collection: Heritage Health Index 2014 on the State of America's Collections (HHI 2014)

AGENCY: Institute of Museum and Library Services, National Foundation for the Arts and the Humanities.

ACTION: Submission for OMB Review, Comment Request.

SUMMARY: The Institute of Museum and Library Services announces the following information collection has been submitted to the Office of Management and Budget (OMB) for review and approval in accordance with the Paperwork Reduction Act (44 U.S.C. Chapter 35). This program helps to ensure that requested data can be provided in the desired format, reporting burden (time and financial resources) is minimized, collection instruments are clearly understood, and the impact of collection requirements on respondents can be properly assessed.

A copy of the proposed information collection request can be obtained by contacting the individual listed below in the ADDRESSES section of this notice.

DATES: Written comments must be submitted to the office listed in the Contact section below on or before May 9, 2014.

OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility and clarity of the information to be collected; and

• Minimize the burden of the collection of information on those who are to respond, including through the use of appropriate automated electronic, mechanical, or other technological collection techniques or other forms of information technology, e.g. permitting electronic submissions of responses.

ADDRESSES: Christopher J. Reich, Senior Advisor, Institute of Museum and Library Services, 1800 M St. NW., 9th Floor, Washington, DC 20036. Mr. Reich can be reached by Telephone: 202-653-4685, Fax: 202-653-4608, or by email at creich@imls.gov, or by teletype (TTY/TDD) for persons with hearing difficulty at 202-653-4614.

SUPPLEMENTARY INFORMATION: The Institute of Museum and Library Services (IMLS) is an independent Federal grant-making agency and is the primary source of Federal support for the Nation's 123,000 libraries and 17,500 museums. IMLS provides a variety of grant programs to assist the Nation's museums and libraries in improving their operations and enhancing their services to the public. IMLS is responsible for identifying national needs for and trends in museum, library, and information services; measuring and reporting on the impact and effectiveness of museum, library and information services throughout the United States, including programs conducted with funds made available by IMLS; identifying, and disseminating information on, the best practices of such programs; and developing plans to improve museum, library and information services of the United States and strengthen national, State, local, regional, and international communications and cooperative networks (20 U.S.C. Chapter 72, 20 U.S.C. 9108).

Abstract: Because collections items are at the heart of all cultural heritage and collecting practices, IMLS will collect the Heritage Health Index to measure the extent and effectiveness of preservation activities and initiatives, and to identify areas for capacity building and professional development for collections stewards, from the nation's nonprofit museums, libraries, archives, historical societies/sites, and archaeological repositories.

Current Actions: This notice proposes clearance of the Heritage Health Index 2014 on the State of America's Collections (HHI 2014). The 60-day notice for the HHI 2014 (previously HHI II), was published in the Federal Register on December 10, 2013, (FR vol. 78, No. 237, pgs. 74173-74174). The agency has taken into consideration the one comment that was received under this notice.

Agency: Institute of Museum and Library Services.

Title: Heritage Health Index 2014 on the State of America's Collections (HHI 2014).

OMB Number: To Be Determined.

Agency Number: 3137.

Frequency: One time.

Affected Public: The target population for the HHI 2014 Survey is U.S. cultural heritage organizations, including libraries, museums, archives, and archaeological repositories. A national probability sample of institutions generated using available mailing lists will be employed by the survey. Individual survey respondents within selected institutions will be knowledgeable persons about collections care and practices. Federal Government, State, Local or Tribal Government, and not-for-profit institutions.

Number of Respondents: 4,195.

Estimated Average Burden per Response: 1.8 hours.

Estimated Total Annual Burden: 4,723 hours.

Total Annualized capital/startup costs: N/A.

Total Annualized cost to respondents: $21,130.

Total Annual costs to Federal Government: $379,542.

Contact: Comments should be sent to Office of Information and Regulatory Affairs, Attn.: OMB Desk Officer for Education, Office of Management and Budget, Room 10235, Washington, DC 20503, (202) 395-7316.

Dated: April 7, 2014.
Kim A. Miller,
Management Analyst, Office of Planning, Research, and Evaluation.

[FR Doc. 2014-08042 Filed 4-9-14; 8:45 am]

BILLING CODE 7036-01-P